DEPARTMENT OF JUSTICE

Drug Enforcement Administration

Importation of Controlled Substances; Notice of Registration

By notice dated August 8, 2000, and published in the Federal Register on August 23, 2000 (65 FR 51331), Calbiochem-Novabiochem Corporation, 10394 Pacific Center Court, Attn: Receiving Inspector, San Diego, California 92121-4340, made application by renewal to the Drug Enforcement Administration (DEA) to be registered as an importer of the basic classes of controlled substances listed below:

Drug | Schedule
Tetrahydrocannabinols (7370) | I
Mescaline (7381) | I
Phencyclidine (7471) | II
Phenylaceton (8501) | II
Cocaine (9041) | II

The firm plans to import small quantities of the listed controlled substances to make reagents for distribution to the biomedical research community.

No comments or objections have been received. DEA has considered the factors in title 21, United States Code, section 823(a) and determined that the registration of Calbiochem-Novabiochem Corporation is consistent with the public interest and with United States obligations under international treaties, conventions, or protocols in effect on May 1, 1971, at this time. DEA has investigated Calbiochem-Novabiochem Corporation on a regular basis to ensure that the company's continued registration is consistent with the public interest. These investigations have included inspection and testing of the company's physical security systems, audits of the company's records, verification of the company's compliance with state and local laws, and a review of the company's background and history. Therefore, pursuant to section 1008(a) of the Controlled Substance Import and Export Act and in accordance with the Title 21, Code of Federal Regulations, § 1301.34, the above firm is granted registration as an importer of the basic classes of controlled substances listed above.

Dated: November 20, 2000.
John H. King,
Deputy Assistant Administrator, Office of Division Control, Drug Enforcement Administration.

[FR Doc. 00-30939 Filed 12-4-00; 8:45 am]

BILLING CODE 4410-09-M